LEGAL SERVICES CORPORATION

45 CFR Parts 1606 and 1623

Termination, Limited Reductions in Funding, and Debarment Procedures; Recompetition; Suspension Procedures

AGENCY: Legal Services Corporation.

ACTION: Notice of Rulemaking Workshop; correction.

SUMMARY: LSC recently published a notice regarding a Rulemaking Workshop it is conducting in connection with its rulemaking to consider revisions to its regulations on termination and suspension. The date for the Workshop listed in that notice has changed.

FOR FURTHER INFORMATION CONTACT: Victor M. Fortuno, Vice President and General Counsel, Legal Services Corporation, 3333 K St., NW., Washington, DC 20007; (202) 295-1620 (phone); 202-337-6831 (fax) or vfortuno@lsc.gov.

SUPPLEMENTARY INFORMATION: On May 13, 2008, the Legal Services Corporation published a notice in the Federal Register that it will be convening a Rulemaking Workshop in connection with its open rulemaking to consider revisions to 45 CFR part 1606, Termination and Debarment Procedures; Recompetition, and 45 CFR part 1623, Suspension. (73 FR 27483). That notice stated that the Workshop was going to occur on Tuesday, June 17, 2008. The date for the Workshop has been rescheduled to Thursday, June 26, 2008.

Victor M. Fortuno,
Vice President and General Counsel.

[FR Doc. E8-11873 Filed 5-27-08; 8:45 am]

BILLING CODE 7050-01-P